DEPARTMENT OF COMMERCE

National Oceanic and Atmospheric Administration

[I.D. 050404A]

Endangered Species; File No. 1432

AGENCY: National Marine Fisheries Service (NMFS), National Oceanic and Atmospheric Administration (NOAA), Commerce.

ACTION: Receipt of application.

SUMMARY: Notice is hereby given that Dr. Jeanette Wyneken, Assistant Professor, Florida Atlantic University, Dept. of Biological Sciences, 777 Glades Rd., Boca Raton, FL 33431, has applied in due form for a permit to take loggerhead sea turtles (Caretta caretta) for purposes of scientific research.

DATES: Written, telefaxed, or e-mail comments must be received on or before June 9, 2004.

ADDRESSES: The application and related documents are available for review upon written request or by appointment in the following office(s):

Permits, Conservation and Education Division, Office of Protected Resources, NMFS, 1315 East-West Highway, Room 13705, Silver Spring, MD 20910; phone (301)713-2289; fax (301)713-0376; and

Assistant Regional Administrator for Protected Resources, Southeast Region, NMFS, 9721 Executive Center Drive North, St. Petersburg, FL 33702-2432; phone (813)570-5301; fax (813)570-5517.

Written comments or requests for a public hearing on this application should be mailed to the Chief, Permits, Conservation and Education Division, F/PR1, Office of Protected Resources, NMFS, 1315 East-West Highway, Room 13705, Silver Spring, MD 20910. Those individuals requesting a hearing should set forth the specific reasons why a hearing on this particular request would be appropriate.

Comments may also be submitted by facsimile at (301)713-0376, provided the facsimile is confirmed by hard copy submitted by mail and postmarked no later than the closing date of the comment period.

Comments may also be submitted by e-mail. The mailbox address for providing e-mail comments is NMFS.Pr1Comments@noaa.gov. Include in the subject line of the e-mail comment the following document identifier: File No. 1432.

FOR FURTHER INFORMATION CONTACT: Ruth Johnson or Jennifer Jefferies, (301)713-2289.

SUPPLEMENTARY INFORMATION: The subject permit is requested under the authority of the Endangered Species Act of 1973, as amended (ESA; 16 U.S.C. 1531 et seq.) and the regulations governing the taking, importing, and exporting of endangered and threatened species (50 CFR 222-226).

The applicant proposes to take up to 30 loggerhead sea turtle hatchlings per site at 10 sites (Onslow Beach, Kiawah Island, Hilton Head Island, Wassaw Island, Melbourne Beach, Hutchinson Island, Juno Beach, Boca Raton, Sanibel/Captiva and vicinity including waters near Ft. Meyers, and Sarasota) for scientific research. Turtles will be captured on the beach under permits issued by the States of North Carolina, South Carolina, Georgia, and Florida, and attached with a “Witherington Float.” The floats used to track loggerheads are 2 inches (5 cm) long and ¾ inches (1.9 cm) deep and shaped like a racing sailboat hull. The hull is hollowed and fitted with a flattened piece of split-shot in the bottom and a small eye formed of wire sunk to the balsa wood to attach one end of a cotton thread. The “deck” is hollowed out and holds a very small cynalume (cold chemical glow stick) and the hull is painted black. The cynalume is only visible from the top. The float is tethered with a thin cotton sewing thread and the other end of the thread tether (approx. 10 ft or 3 m long) is attached to the turtle by slip knot around the shell behind the foreflippers. The thread will break away and fall off in about two hours in saltwater. Turtles will be released at water's edge and followed to determine survivability. Turtles that are not lost to predators will be recaptured, the tether removed and released. The objective of this study is to document spatial variability in hatchling survivorship and provide revised values for other life stages.

Dated: May 4, 2004.
Stephen L. Leathery,
Chief, Permits, Conservation and Education Division, Office of Protected Resources, National Marine Fisheries Service.

[FR Doc. 04-10566 Filed 5-7-04; 8:45 am]

BILLING CODE 3510-22-S